DEPARTMENT OF HOMELAND SECURITY

Coast Guard

46 CFR Part 45

[Docket No. USCG-1998-4623]

RIN 1625-AA17

Limited Service Domestic Voyage Load Lines for River Barges on Lake Michigan, Delay of Effective Date

AGENCY: Coast Guard, DHS.

ACTION: Notice of delay of effective date and reopening of the comment period.

SUMMARY: The Coast Guard announces that it is delaying the effective date of certain revisions in 46 CFR part 45 as amended by the final rule published in the November 18, 2010, Federal Register (75 FR 70595), and soliciting comments on those amendments.

DATES: Effective Date. This action is effective December 20, 2010. The effective date of revisions to 46 CFR Table 45.171, § 45.187, and § 45.191(a), as revised in the final rule published in the November 18, 2010, Federal Register (75 FR 70595) is delayed until June 15, 2011. All other provisions of the final rule are effective on December 20, 2010.

Comment Period. Comments must be received at the address provided below no later than January 18, 2011. Comments are limited to the subject matter described below.

ADDRESSES: You may submit comments identified by docket number USCG-1998-4623 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Comments and material received from the public, as well as documents mentioned in this preamble as being available in the docket, are part of docket USCG-1998-4623 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-1998-4623 in the “Keyword” box, and then clicking “Search.”

FOR FURTHER INFORMATION CONTACT: If you have questions on this rule, call or e-mail Mr. Thomas Jordan, Office of Design and Engineering Standards, Naval Architecture Division (CG-5212), Coast Guard; telephone 202-372-1370, e-mail Thomas.D.Jordan@uscg.mil. If you have questions on viewing or submitting material to the docket, call Ms. Renee V. Wright, Program Manager, Docket Operations, telephone 202-366-9826.

SUPPLEMENTARY INFORMATION:

Background and Purpose

On November 18, 2010, the Coast Guard published a final rule (75 FR 70595) regarding special load line regimes for certain river barges operating on Lake Michigan. This rule finalized interim regulations that have been in effect since 2002, with some changes. The final regulations are scheduled to go into effect on December 20, 2010. For reasons explained herein, we are extending the effective date of the revised weather restrictions (found in 46 CFR Table 45.171, § 45.187, and § 45.191(a) of the final rule) for 6 months and requesting public comment on that provision.

United States vessels operating on Lake Michigan are normally required to have a load line assignment. River barges do not typically qualify for load line assignment because their hull construction is not robust enough for unrestricted operations on the Great Lakes. However, we have established special load line regimes whereby certain river barges may operate on select Great Lakes routes under limited conditions. These are conditional exemptions: The barges are exempted from the normal Great Lakes load line requirement only if they comply with the specified provisions for the route. On all routes, the tows are restricted to not more than 5 nautical miles from shore. And because river barges are not as robustly constructed as vessels designed for Great Lakes service, certain weather restrictions pertain to the routes in order to ensure the safety of the tow. It is up to the tow master to review the weather forecast and interpret it against the particular weather restrictions for the route.

In reviewing marine weather forecast services for the routes, the National Weather Service (NWS) Nearshore Marine Forecasts for Lake Michigan were identified as providing localized forecasts for the specific waters covered by the exemption routes. The Nearshore forecast waters are a 5-mile wide corridor along the Lake shoreline. This corridor is further divided into coastwise zones: There are five zones between Milwaukee and Calumet, two zones between Calumet and Burns Harbor, and seven zones beyond Burns Harbor to Muskegon. The Nearshore forecast takes into account wind direction and speed for these zones, and the resulting wave conditions expected over the forecast period.

In addition to geographic coverage, the general “Small Craft Advisory” (SCA) threshold conditions for the Great Lakes are sustained winds or gusts between 22 and 33 knots inclusive, and/or seas or waves greater than 4 feet. Small Craft Advisories may also be issued when lake ice exists that could be hazardous to small boats.

Although river barges are not customary small craft, the SCA threshold conditions align closely with the weather limits for the routes that have been in effect with the interim regulations. While the SCA wind range is higher than the interim regulation's wind limits, the compensating factor is that the effects of the winds are analyzed for wave conditions in the Nearshore zones, as opposed to an open Lake forecast. We believe that this will lead to more-accurate wave forecasts within the Nearshore waters actually transited by the tows.

In this regard, we believe that the use of the SCA is also a reasonable clarification of the “fair weather conditions” for the Burns Harbor route, since the zone forecast similarly considers the effect of wind direction on wave heights along that route.

For these reasons, the final rule substituted SCA conditions as the limiting weather criteria for all routes because they align closely with the interim weather limitations, and offer the benefit of simplifying and clarifying the weather restrictions without adversely affecting any operations. Since publishing the final rule, however, the Coast Guard has received several comments from operators contending that the use of SCA criteria would reduce the number of operational days on the Burns Harbor route. Therefore, in order to provide operators with an opportunity to comment specifically on that issue, the Coast Guard is delaying the implementation of the SCA weather criteria and reopening the comment period. Meanwhile, the weather limitations that are in the present regulations, as summarized in original Table 45.171, will remain in effect during the delay period. All other revisions in the final rule enter into force on December 20, 2010.

Request for Public Comment

The Coast Guard is soliciting public comment on the weather limitations for these routes. Comments are particularly requested in regard to the following issues:

• Suitability of the Nearshore SCA for the limiting weather conditions.

• Alternative limiting conditions if SCA conditions are considered excessive or otherwise inappropriate.

We are also interested in comments regarding operator practices and interpretation of the “fair weather” requirement for the Burns Harbor route found in the interim regulations.

This notice is issued under authority of 5 U.S.C. 553.

Dated: December 13, 2010.
J.G. Lantz,
Director of Commercial Regulations and Standards.

[FR Doc. 2010-31699 Filed 12-16-10; 8:45 am]

BILLING CODE 9110-04-P